ENVIRONMENTAL PROTECTION AGENCY

40 CFR Part 52

[R04-OAR-2003-SC-0001-200416(b); FRL-7799-4]

Approval and Promulgation of Implementation Plans; South Carolina: Source Testing

AGENCY: Environmental Protection Agency (EPA).

ACTION: Proposed rule.

SUMMARY: The EPA is proposing to approve the State Implementation Plan (SIP) revisions submitted by the South Carolina Department of Health and Environmental Control (SC DHEC) on September 4, 2002, and July 25, 2003. The proposed revisions are to establish, standardize, and clarify source testing requirements. South Carolina is also changing the title of Regulation 62.1 to reflect that it contains general provisions. In the Final Rules section of this Federal Register, the EPA is approving the State's SIP revision as a direct final rule without prior proposal because the Agency views this as a noncontroversial submittal and anticipates no adverse comments. A detailed rationale for the approval is set forth in the direct final rule. If no significant, material, and adverse comments are received in response to this rule, no further activity is contemplated. If EPA receives adverse comments, the direct final rule will be withdrawn and all public comments received will be addressed in a subsequent final rule based on this rule. The EPA will not institute a second comment period on this document. Any parties interested in commenting on this document should do so at this time.

DATES: Written comments must be received on or before September 9, 2004.

ADDRESSES: Comments may be submitted by mail to: Nacosta C. Ward, Regulatory Development Section, Air Planning Branch, Air, Pesticides and Toxics Management Division, U.S. Environmental Protection Agency, Region 4, 61 Forsyth Street, SW., Atlanta, Georgia 30303-8960. Comments may also be submitted electronically, or through hand delivery/courier. Please follow the detailed instructions described in the direct final rule, ADDRESSES section which is published in the Rules Section of this Federal Register.

FOR FURTHER INFORMATION CONTACT: Nacosta C. Ward, Regulatory Development Section, Air Planning Branch, Air, Pesticides and Toxics Management Division, U.S. Environmental Protection Agency, Region 4, 61 Forsyth Street, SW., Atlanta, Georgia 30303-8960. The telephone number is (404) 562-9140. Ms. Ward can also be reached via electronic mail at ward.nacosta@epa.gov.

SUPPLEMENTARY INFORMATION: For additional information see the direct final rule which is published in the Rules section of this Federal Register.

Dated: July 27, 2004.
A. Stanley Meiburg,
Acting Regional Administrator, Region 4.

[FR Doc. 04-18138 Filed 8-9-04; 8:45 am]

BILLING CODE 6560-50-P